DEPARTMENT OF STATE

[Public Notice 8049]

In the Matter of the Designation of the Mujahadin-e Khalq, Also Known as MEK, Also Known as Mujahadin-e Khalq Organization, Also Known as MKO, Also Known as Muslim Iranian Students' Society, Also Known as National Council of Resistance, Also Known as NCR, Also Known as Organization of the People's Holy Warriors of Iran, Also Known as the National Liberation Army of Iran, Also Known as NLA, Also Known as People's Mujahadin Organization of Iran, Also Known as PMOI, Also Known as National Council of Resistance of Iran, Also Known as NCRI, Also Known as Sazeman-e Mujahadin-e Khalq-e Iran, as a Foreign Terrorist Organization Pursuant to Section 219 of the Immigration and Nationality Act, as Amended

In consultation with the Attorney General and the Secretary of the Treasury, I hereby revoke the designation of the Mujahadin-e Khalq, and its aliases, as a Foreign Terrorist Organization pursuant to Section 219 (a)(6)(A) of the Immigration and Nationality Act, as amended (8 U.S.C. 1189(a)(6)(A)). This action takes effect September 28, 2012.

This determination shall be published in the Federal Register.

Dated: September 21, 2012.
Hillary Rodham Clinton,
Secretary of State.

[FR Doc. 2012-24505 Filed 10-3-12; 8:45 am]

BILLING CODE 4710-10-P